DEPARTMENT OF ENERGY

Federal Energy Regulatory Commission

[Docket Nos. CP03-41-000 and CP03-43-000]

Dominion Transmission, Inc., Texas Eastern Transmission, LP; Notice of Intent To Prepare an Environmental Assessment for the Proposed Mid-Atlantic Expansion Project and Dominion Expansion Project and Request for Comments on Environmental Issues

February 28, 2003.

The staff of the Federal Energy Regulatory Commission (FERC or Commission) will prepare an environmental assessment (EA) that will discuss the environmental impacts of the Mid-Atlantic Expansion and Dominion Expansion Projects (collectively referred to as the Projects) involving construction and operation of facilities by Dominion Transmission, Inc. (Dominion) and Texas Eastern Transmission, LP (Texas Eastern). Dominion would construct facilities in Wetzel County, West Virginia; Greene and Franklin Counties, Pennsylvania; and Loudoun and Fauquier Counties, Virginia. The facilities that would be constructed by Texas Eastern would be in Greene, Fayette, Somerset, Fulton, and Franklin Counties, Pennsylvania.¹ Dominion's facilities would consist of 39,200 horsepower (hp) of new compression. Texas Eastern's facilities would consist of about 34.64 miles of 36-inch-diameter pipeline looping. This EA will be used by the Commission in its decision-making process to determine whether the Projects are in the public convenience and necessity.

¹ Dominion's and Texas Eastern's applications were filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the Projects are approved by the Commission, that approval conveys with it the right of eminent domain. Therefore, if easement negotiations fail to produce an agreement, the appropriate pipeline company could initiate condemnation proceedings in accordance with State law.

A fact sheet prepared by the FERC entitled “An Interstate Natural Gas Facility On My Land? What Do I Need To Know?” was attached to each project's notice Dominion or Texas Eastern provided to landowners. This fact sheet addresses a number of typically asked questions, including the use of eminent domain and how to participate in the Commission's proceedings. It is available for viewing on the FERC Internet Web site (http://www.ferc.gov).

Summary of the Proposed Projects

Dominion wants to expand the capacity of its facilities in Virginia, West Virginia, and Pennsylvania to transport an additional 223,000 dekatherms per day (Dth/d) of gas to fulfill requests for service to end users in Virginia. To transport this gas to Dominion, Texas Eastern proposes to construct facilities in Pennsylvania.

Dominion seeks authority to construct and operate:

• The new Mockingbird Hill Compressor Station which would include one 5,000-hp gas-fired compressor and related facilities near Pine Grove, Wetzel County, West Virginia;

• Additional compression at the existing Crayne Compressor Station in Greene County, Pennsylvania, including replacement of a 5,500-hp unit with a 7,800-hp gas-fired compressor, and upgrading an existing 6,500-hp unit to 7,800-hp resulting in an increase of 3,600-hp at the station;

• An upgrade of the existing Crayne Compressor Station measuring and regulating (M&R) station;

• Two additional 7,800-hp gas-fired compressors and a 1,200-hp upgrade of the existing electric-motor driven compressors at the existing Chambersburg Compressor Station in Franklin County, Pennsylvania, for a total increase of 16,800-hp;

• One 7,800-hp gas-fired compressor and related facilities at the existing Leesburg Compressor Station in Loudoun County, Virginia; and

• The new Quantico Compressor Station which would include one 6,000-hp gas-fired compressor and related facilities near Nokesville and Manassas, Fauquier County, Virginia.

Dominion proposes to have these facilities in service by November 30, 2004.

Texas Eastern seeks authority to construct and operate:

• About 10.5 miles of 36-inch-diameter pipeline in Greene County, Pennsylvania, the Waynesburg Discharge Segment 1;

• About 3.5 miles of 36-inch-diameter pipeline in Fayette County, Pennsylvania, the Waynesburg Discharge Segment 2;

• About 12.5 miles of 36-inch-diameter pipeline in Somerset County, Pennsylvania, the Uniontown Discharge Segment;

• About 8.1 miles of 36-inch-diameter pipeline in Fulton and Franklin Counties, Pennsylvania; and

• A change out of the aerodynamic assembly on the existing 11,000-hp electric-motor driven compressor at the Uniontown Compressor Station in Fayette County, Pennsylvania.

Texas Eastern proposes to have its facilities in service by November 1, 2004.

No nonjurisdicitonal facilities would be constructed.

The locations of the project facilities are shown in appendix 1.2

Land Requirements for Construction

Construction of Dominion's proposed facilities would require about 18.2 acres of land, all but 7.4 acres of this disturbance would be on land Dominion already owns. Construction of Texas Eastern's proposed facilities would require about 623.2 acres. No new permanent right-of-way would be required because all of Texas Eastern's new facilities would be located within an existing pipeline right-of-way. Pipeline construction would generally consist of removing an existing pipeline and relaying new pipeline in the same footprint. However, about 0.03 acre would be required for access roads. Following construction, all of the affected land would be restored and allowed to revert to its former use.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this notice of intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Geology and soils

• Land use

• Water resources, fisheries, and wetlands

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 6.

Currently Identified Environmental Issues

We have already identified several issues that we think deserve attention based on a preliminary review of the proposed facilities and the environmental information provided by Dominion and Texas Eastern. This preliminary list of issues may be changed based on your comments and our analysis.

• The addition of 39,200-hp at five compressor stations would have impacts on air and noise quality.

• Two new compressor stations would be constructed creating new visual impacts.

• About 623 acres of land would be temporarily disturbed for pipeline construction.

• Forty-nine waterbodies would be crossed by pipeline construction or by access roads.

• Pipeline construction would cross the watersheds of the Monongahela, Youghiogheny, Juniata, and Potomac Rivers in Pennsylvania.

• One public water supply intake, 12 public water supply wells, and seven public water supply springs would be located within 1 mile of the Projects.

• Ten private water supply wells have been identified within 150 feet of construction work areas.

• Pipeline construction would cross three Wild Trout Streams and six Approved Trout Waters as defined by the Pennsylvania Department of Environmental Protection.

• Cultural resources may be affected by the Projects.

• Blasting may be required for construction.

• Some areas with karst terrain would be crossed.

• About 1.9 acres of prime farmland soil would be permanently affected by construction of aboveground facilities.

• Fourteen residences would be within 50 feet of construction work areas.

• Pipeline construction would cross the Tuscarora Trail and Buchanan State Forest.

• About 1.66 acres of forested wetland and 0.71 acre of agricultural wetland would be permanently affected by construction of the Quantico Compressor Station.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Nos. CP03-41-000 and CP03-43-000.

• Mail your comments so that they will be received in Washington, DC on or before March 31, 2003.

Please note that we are continuing to experience delays in mail deliveries from the U.S. Postal Service. As a result, we will include all comments that we receive within a reasonable time frame in our environmental analysis of this project. However, the Commission strongly encourages electronic filing of any comments or interventions or protests to this proceeding. See18 CFR 385.2001(a)(1)(iii) and the instructions on the Commission's Web site at http://www.ferc.gov under the “e-Filing” link and the link to the User's Guide. Before you can file comments you will need to create a free account which can be created by clicking on “Login to File” and then “New User Account.”

We may mail the EA for comment. If you are interested in receiving it, please return the Information Request (appendix 4). If you do not return the Information Request, you will be taken off the mailing list.

Becoming an Intervener

In addition to involvement in the EA scoping process, you may want to become an official party to the proceeding known as an “Intervener”. Interveners play a more formal role in the process. Among other things, Interveners have the right to receive copies of case-related Commission documents and filings by other Interveners. Likewise, each Intervener must provide 14 copies of its filings to the Secretary of the Commission and must send a copy of its filings to all other parties on the Commission's service list for this proceeding. If you want to become an Intervener you must file a motion to intervene according to rule 214 of the Commission's rules of practice and procedure (18 CFR 385.214) (see appendix 2).³ Only Interveners have the right to seek rehearing of the Commission's decision.

³ Interventions may also be filed electronically via the Internet in lieu of paper. See the previous discussion on filing comments electronically.

Affected landowners and parties with environmental concerns may be granted Intervener status upon showing good cause by stating that they have a clear and direct interest in this proceeding which would not be adequately represented by any other parties. You do not need Intervener status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-5374 Filed 3-6-03; 8:45 am]

BILLING CODE 6717-01-P